NUCLEAR REGULATORY COMMISSION

Draft Regulatory Guide: Issuance, Availability

AGENCY: Nuclear Regulatory Commission.

ACTION: Draft Regulatory Guide: Issuance, Availability.

FOR FURTHER INFORMATION CONTACT: Bonnie A. Schnetzler, U.S. Nuclear Regulatory Commission, Washington, DC 20555-0001, Telephone: (301) 415-7883 or e-mail BAS5@nrc.gov.

SUPPLEMENTARY INFORMATION:

I. Introduction

The U.S. Nuclear Regulatory Commission (NRC) has issued for public comment a draft guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide, entitled “Reporting of Safeguards Events,” is temporarily identified by its task number, DG-5019, which should be mentioned in all related correspondence.

This draft regulatory guide provides an approach acceptable to the NRC staff for use by licensees for reporting of security events. In 10 CFR part 73, “Physical Protection of Plants and Materials,” Section 73.71 requires licensees to report to the Operations Center of the Nuclear Regulatory Commission (NRC) or to record in a log certain security events. Appendix G, “Reportable Safeguards Events,” to 10 CFR part 73 (Appendix G) describes reporting requirements in detail. Appendix E to 10 CFR part 50 (Appendix E), “Emergency Planning and Preparedness for Production and Utilization Facilities,” provides more detailed information for emergency planning and preparedness. The events to be reported or recorded are those that represent actual or potential threats, suspicious activities, external attacks, or internal tampering with equipment that threaten or affect safe plant operations or effective security operations. The events to be recorded are those that affect or lessen the effectiveness of the security systems, components, and procedures as established by security regulations and the licensee's approved security plans.

Proposed revisions to 10 CFR 73.71 included two new requirements for power reactors: (1) The reporting within 15 minutes after discovery of an actual or imminent threat against a facility, and (2) the reporting of suspicious surveillance activities or attempts at access, both of which are addressed in this guide.

II. Further Information

The NRC staff is soliciting comments on Draft Regulatory Guide DG-5019. Comments may be accompanied by relevant information or supporting data, and should mention DG-5019 in the subject line. Comments submitted in writing or in electronic form will be made available to the public in their entirety through the NRC's Agencywide Documents Access and Management System (ADAMS). Personal information will not be removed from your comments. You may submit comments by any of the following methods:

1. Mail comments to: Rulemaking, Directives, and Editing Branch, Office of Administration, U.S. Nuclear Regulatory Commission, Washington, DC 20555-0001.

2. E-mail comments to: NRCREP@nrc.gov. You may also submit comments via the NRC's rulemaking Web site at http://ruleforum.llnl.gov. Address questions about our rulemaking Web site to Carol A. Gallagher (301) 415-5905; e-mail CAG@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about Draft Regulatory Guide DG-5019 may be directed to NRC Senior Program Manager, Bonnie A. Schnetzler, at (301) 415-7883 or e-mail BASA5@nrc.gov.

Comments would be most helpful if received by 60 days from issuance of the FRN. Comments received after that date will be considered if it is practical to do so, but the NRC is able to ensure consideration only for comments received on or before this date. Although a time limit is given, comments and suggestions in connection with items for inclusion in guides currently being developed or improvements in all published guides are encouraged at any time.

Electronic copies of Draft Regulatory Guide DG-5019 are available through the NRC's public Web site under Draft Regulatory Guides in the Regulatory Guides document collection of the NRC's Electronic Reading Room at http://www.nrc.gov/reading-rm/doc-collections/. Electronic copies are also available in ADAMS (http://www.nrc.gov/reading-rm/adams.html), under Accession No. ML071710233.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Regulatory guides are not copyrighted, and Commission approval is not required to reproduce them.

(5 U.S.C. 552(a))

Dated at Rockville, Maryland, this 28th day of June, 2007.
For the Nuclear Regulatory Commission.
Andrea Valentin,
Chief, Regulatory Guide Branch, Division of Fuel, Engineering and Radiological Research, Office of Nuclear Regulatory Research.

[FR Doc. E7-13098 Filed 7-5-07; 8:45 am]

BILLING CODE 7590-01-P